DEPARTMENT OF TRANSPORTATION

Federal Aviation Administration

Proposed Federal Aviation Administration (FAA) Policy for Provisional Type Certificates

AGENCY: Federal Aviation Administration (DOT).

ACTION: Notice of availability and requests for public comment.

SUMMARY: This notice announces the availability of and request comments on the proposed policy for the issuance of provisional type certificates (TCs) as prescribed by Title 14 of the Code of Federal Regulations(14 CFR) 21.81.

DATES: Comments must be received on or before August 30, 2005.

ADDRESSES: Send all comments on the proposed policy for provisional TCs to: Federal Aviation Administration, Aircraft Certification Service, Aircraft Engineering Division, Certification Procedures Branch, AIR-110, Room 815, 800 Independence Avenue, SW., Washington, DC 20591. ATTN. Victor Powell, AIR-110. You may deliver comments to: Federal Aviation Administration, Room 815, 800 Independence Avenue, SW., Washington, DC 20591.

FOR FURTHER INFORMATION CONTACT: Victor Powell, Aerospace Engineer, Federal Administration, Aircraft Certification Service, Aircraft Engineering Division, Certification Procedures Branch, AIR-110, Room 815, 800 Independence Avenue, SW., Washington, DC 20591, telephone (202) 267-9564, fax (202) 237-5340, or E-mail: 9-awa-air110-vp12@faa.gov.

SUPPLEMENTARY INFORMATION:

Comments Invited

You are invited to comment on the proposed policy by sending written data, views, or arguments to the above address. Comments received on the proposed policy may be examined, before and after the comment closing date, in Room 815, FAA Headquarters Building, 800 Independence Avenue, SW., Washington, DC 20591, weekdays except Federal holidays, between 8:30 a.m. and 4:30 p.m. The Director, Aircraft Certification Service, will consider all communications received on or before the closing date before issuing the final policy.

Background

The FAA's Aircraft Certification Service (AIR) are proposing to revise current guidance used by the Aircraft Certification Offices (ACOs) to evaluate applications for provisional TCs for inclusion into the next revision of FAA Order 8110.4, “Type Certification.” As such, to ensure the adequacy of the guidance and compliance with the provisional type certification requirements (14 CFR part 21.81), this proposed guidance would help to ensure a standardized process for the evaluation and issuance of a provisional TC for aircraft and aircraft engines. The standardized guidance will help by ensuring (1) all ACOs have the same expectations for safety, and (2) the applicants are treated equally and consistently no matter where their applications are submitted for our evaluation.

How to Get Copies

You can get a copy of the proposed guidance from the Internet at http://www.faa.gov/Certification/Aircraft/DraftDoc/Comments.htm, by selecting Draft Policy memos. You may also request a copy from Victor Powell, AIR-110 (see the section FOR FURTHER INFORMATION CONTACT).

Dated: Issued in Washington, DC on June 27, 2005.
Susan J.M. Cabler
Assistant Manager, Aircraft Engineering Division, Aircraft Certification Service.

[FR Doc. 05-13080 Filed 6-30-05; 8:45 am]

BILLING CODE 4910-13-M